SMALL BUSINESS ADMINISTRATION

[Declaration of Disaster #3304]

State of Michigan

As a result of the President's major disaster declaration on October 17, 2000, I find that Wayne County, Michigan constitutes a disaster area due to damages caused by severe storms and flooding that occurred September 10-11, 2000. Applications for loans for physical damage as a result of this disaster may be filed until the close of business on December 16, 2000 and for economic injury until the close of business on July 17, 2001, at the address listed below or other locally announced locations: U.S. Small Business Administration, Disaster Area 2 Office, One Baltimore Place, Suite 300, Atlanta, GA 30308.

In addition, applications for economic injury loans from small businesses located in the contiguous counties of Macomb, Monroe, Oakland, and Washtenaw in the State of Michigan may be filed until the specified date at the above location.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster are 330406 for physical damage and 9J3400 for economic injury.

(Catalog of Federal Domestic Assistance Program Nos. 59002 and 59008)

Dated: October 20, 2000.
Allan I. Hoberman,
Acting Associate Administrator for Disaster Assistance.

[FR Doc. 00-27782 Filed 10-27-00; 8:45 am]

BILLING CODE 8025-01-P